DEPARTMENT OF THE INTERIOR

Fish and Wildlife Service

[FWS-HQ-MB-2015-N011; 91100-3740-GRNT 7C]

Meeting Announcement: North American Wetlands Conservation Council

AGENCY: Fish and Wildlife Service, Interior.

ACTION: Notice of teleconference.

SUMMARY: The North American Wetlands Conservation Council (Council) will meet via telephone to select North American Wetlands Conservation Act (NAWCA) U.S. small grant proposals for recommendation to the Migratory Bird Conservation Commission (Commission). This teleconference is open to the public, and interested persons may present oral or written statements.

DATES: The teleconference is scheduled for February 25, 2015, at 2 p.m. If you are interested in presenting information at this public meeting, contact the acting Council Coordinator no later than February 20, 2015.

ADDRESSES: Because this is a conference call, there is no meeting venue. Participants should call the toll-free number 866-692-4541; when prompted, enter participant passcode 51659890.

FOR FURTHER INFORMATION CONTACT: Michael Kreger, Acting Council Coordinator, by phone at 703-358-1784; by email at dbhc@fws.gov; or by U.S. mail at U.S. Fish and Wildlife Service, 5275 Leesburg Pike MS: MB, Falls Church, Virginia 22041.

SUPPLEMENTARY INFORMATION:

About the Council

In accordance with NAWCA (Pub. L. 101-233, 103 Stat. 1968, December 13, 1989, as amended), the State-private-Federal Council meets to consider wetland acquisition, restoration, enhancement, and management projects for recommendation to, and final funding approval by, the Commission.

About NAWCA

The North American Wetlands Conservation Act of 1989 provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at http://www.fws.gov/birdhabitat/Grants/NAWCA.

Public Input

If you wish to: | You must contact the Acting Council Coordinator (see FOR FURTHER INFORMATION CONTACT) no later than
(1) Listen to Council Meeting | February 25, 2015.
(2) Submit written information or questions before the Council meeting for consideration during the meeting | February 20, 2015.

Submitting Written Information or Questions

Interested members of the public may submit relevant information or questions for the Council to consider during the public meeting. If you wish to submit a written statement, so that the information may be made available to the Council for their consideration prior to this meeting, you must contact the acting Council Coordinator by the date above. Written statements must be supplied to the acting Council Coordinator in both of the following formats: One hard copy with original signature, and one electronic copy via email (acceptable file formats are Adobe Acrobat PDF, MS Word, MS PowerPoint, or rich text file).

Giving an Oral Presentation

Individuals or groups requesting to make an oral presentation at the meetings will be limited to 2 minutes per speaker, with no more than a total of 10 minutes for all speakers. Interested parties should contact the acting Council Coordinator by the date above, in writing (preferably via email; see FOR FURTHER INFORMATION CONTACT), to be placed on the public speaker list. Nonregistered public speakers will not be considered during the Council meeting. Registered speakers who wish to expand upon their oral statements, or those who had wished to speak but could not be accommodated on the agenda, are invited to submit written statements to the Council within 30 days following the meeting.

Meeting Minutes

Summary minutes of the Council meeting will be maintained by the acting Council Coordinator at the address under FOR FURTHER INFORMATION CONTACT. Meeting notes will be available by contacting the acting Council Coordinator within 30 days following the meeting. Personal copies may be purchased for the cost of duplication.

Michael Johnson,
Deputy Assistant Director, Migratory Birds.

[FR Doc. 2015-00849 Filed 1-20-15; 8:45 am]

BILLING CODE 4310-55-P